DEPARTMENT OF TRANSPORTATION

Federal Aviation Administration

Adoption of Wyoming Army National Guard Environmental Assessment for Training and Maneuver Activities at Camp Guernsey, and Finding of No Significant Impact and Record of Decision for Establishment of Controlled Firing Areas, Guernsey, Wyoming, June 2020

1.0 Introduction

The Proposed Action is to establish three Controlled Firing Areas (CFA) at Camp Guernsey, Guernsey, Wyoming. Under the Proposed Action, the CFAs would be established for up to two years. CFAs provide a means to accommodate, without impact to aviation, certain hazardous activities, such as field-based artillery, that can be immediately suspended if a non-participating aircraft approaches the area.

As the lead agency, the Wyoming Army National Guard (WYARNG) prepared an Environmental Assessment (EA), Training and Maneuver Activities at Camp Guernsey, Guernsey, Wyoming, in March 2020, and issued a Finding of No Significant Impact (FONSI) on March 16, 2020, in accordance with the National Environmental Policy Act (NEPA). The WYARNG invited the Federal Aviation Administration (FAA) to participate as a cooperating agency on October 10, 2018 (40 CFR 1501.6). The FAA, having jurisdiction by law for approving special use airspace (SUA) under 49 U.S.C. 40103(b)(3)(A), accepted the cooperating agency status on November 19, 2018. This is also in accordance with the October 2019 Memorandum of Understanding between the FAA and Department of Defense (DoD) for Environmental Review of SUA Actions (FAA 7400.2M, Appendix 7). As a cooperating agency, the FAA coordinated closely with the WYARNG, and actively participated in the preparation of the Draft and Final EA.

In accordance with its applicable FAA Order 1050.1F, the FAA has conducted an independent evaluation and analysis of the WYARNG's EA and only adopts portions of the EA associated with the CFAs, all associated Appendices, as well as all materials identified in the EA and/or Appendices and incorporated by reference and made available to the public, for purposes of making its decision regarding the Proposed Action pursuant to 40 CFR 1506.3. As discussed below, based on the information in the EA, the FAA has determined that the Proposed Action will not have a significant effect on the human environment (40 CFR 1508.13) and is issuing this FONSI/Record of Decision (ROD) for the Proposed Action (40 CFR 1505.2).

2.0 Background

In the EA, the WYARNG's Proposed Action consists of both land-based activities (training and maneuver) and airspace activities that require SUA in the form of a CFA or Restricted Area (RA). Some of the proposed land-based activities use field artillery that requires the establishment of surface distance zones (SDZ) for safety reasons. These SDZs provide separation of the field artillery from aircraft (civilian and military traversing the airspace). The proposed CFAs and RAs would accommodate the SDZs. While the CFAs and RAs would prevent aircraft from being struck by errant artillery fired from Camp Guernsey, they would accomplish this in different ways, as described below.

Controlled Firing Areas

A CFA is airspace designated to contain activities that, if not conducted in a controlled environment, would be hazardous to aircraft.¹ CFAs provide a means to accommodate, without impact to aviation, certain hazardous activities that can be immediately suspended if a non-participating aircraft approaches the area. The distinguishing feature of a CFA, compared to other SUA (e.g., RA), is that CFA activities shall be suspended immediately when a non-participating aircraft approaches the area. This responsibility lies completely with the CFA user—in this case, the WYARNG—to terminate activities so that there is no impact on aviation. Additionally, there are no required communications or Air Traffic Control separation associated with CFAs. Only those activities that can be immediately suspended on notice that a non-participating aircraft is approaching are appropriate for a CFA. Field artillery live-fire exercises would also be appropriate for CFAs, provided that they meet the criteria and comply with the safety precautions described in FAA Order 7400.2M, Chapter 27. CFAs are not intended to contain aircraft ordnance delivery activities.

¹ FAA Order 7400.2M, paragraphs 27-1-1 (definition) and 27-1-2 (purpose).

The Camp Guernsey existing airspace contains civilian and military aircraft that currently traverse the proposed CFA airspace. The existing military aircraft in the proposed airspace are not performing any military flight operations that require SUA. CFAs have no impact to aviation; therefore, existing aircraft would continue to traverse the proposed CFA airspace. CFAs are not depicted on aeronautical charts, and there is no requirement for non-participating aircraft to avoid the SUA.

The role of the FAA in the establishment of the proposed CFAs is to authorize the proponent to conduct their operations (field-based artillery) based on FAA approved safety measures. Under the Proposed Action, the CFA would protect aircraft from potentially being struck by errant artillery, as the safety measures in place dictate that operations are suspended if any aircraft enters the CFA airspace.

Restricted Areas

An RA is airspace established under 14 CFR part 73 provisions, within which the flight of aircraft, while not wholly prohibited, is subject to restriction. RAs are established when determined necessary to confine or segregate activities considered hazardous to non-participating aircraft. RAs are depicted on aeronautical charts and there is a requirement for non-participating aircraft to avoid the SUA.

The EA also analyzes the RAs to accommodate the SDZs associated with field artillery. The RAs would also permit hazardous military flight operations; however, non-participating aircraft (civilian or other military aircraft not associated with the operations or exercise) are not permitted to enter the RA airspace. This differs from the CFA, where military aircraft operations are not permitted.

An RA allows for both ground-based hazards (artillery) and air-based hazards, such as military flight operations, to occur within it. Unlike a CFA, an RA does not allow for the existing military and civilian aircraft to traverse the RA and, because of that, impacts to the National Airspace System (NAS) are realized.

3.0 FAA Proposed Action

The FAA's Proposed Action for this FONSI/ROD is the establishment of three CFAs: CFA North, CFA West, and CFA South. The CFAs would be established, up to two years, and would be replaced by the permanent establishment of three RAs: R-7002A, R-7002C, and R-7002B, respectively. While the EA analyzed both CFAs and RAs, only the CFAs are ripe for a FAA decision at this time and are the subject of the FAA's FONSI/ROD.

The WYARNG submitted an Aeronautical Proposal in May 2020 that includes the future RAs described above. During the two-year interim period following the establishment of the CFAs, the FAA will analyze, aeronautically, the permanent establishment of the RAs. FAA issuance of a CFA typically takes months, per FAA 7400.2M, and is only permitted for use for a maximum of two years per issuance. RAs are permanent, and the process to establish an RA may take years due to required rulemaking actions (14 CFR part 73). Given the temporary nature of CFAs, as well as the timeline for the establishment of the permanent RAs, the WYARNG is first pursuing the establishment of CFAs. The CFAs would permit usage of the proposed airspace for hazardous activities associated with field-based artillery for two years until the RA has been established. If the RA rulemaking process takes longer than two years or is not granted, additional CFA requests may be pursued.

These CFAs are located in the airspace above the Camp Guernsey installation boundary in Platte County, Wyoming. The proposed CFA legal descriptions are depicted in Figure 1 and described below:

CFAs

Camp Guernsey, CFA North

Altitudes: Surface up to and including 16,000 feet mean sea level (MSL).

Time of Use: By Notice to Airmen (NOTAM). Approximately 20 days per year.

Using Agency: WYARNG—Camp Guernsey.

Camp Guernsey, CFA South

Altitudes: Surface up to and including 12,500 feet MSL.

Time of Use: By NOTAM. Approximately 20 days per year.

Using Agency: WYARNG—Camp Guernsey.

Camp Guernsey, CFA West

Altitudes: Surface up to and including 17,500 feet MSL.

Time of Use: By NOTAM. Approximately 20 days per year.

Using Agency: WYARNG—Camp Guernsey.

4.0 Purpose and Need

The FAA's Proposed Action establishes three CFAs that would provide separation of the field artillery SDZs from aircraft. The proposed CFAs area needed to prevent aircraft from being struck by errant artillery fired from Camp Guernsey. The implementation of the proposed CFAs would fulfill the FAA's requirements to ensure the safe and efficient use of navigable airspace pursuant to 49 U.S.C. 47101(a)(1), which describes the FAA's authority and regulatory responsibilities.

5.0 Alternatives

The EA evaluated the WYARNG's Proposed Action and the No Action Alternative.

Existing conditions provide a baseline and also represent the No Action Alternative conditions. Under the No Action Alternative, the proposed CFAs would not be established. The existing conditions consists of aircraft (civilian and military) traversing the proposing CFA. Under the No Action Alternative, existing aircraft would continue to occupy the CFA airspace.

The SUA at Camp Guernsey would continue to be limited to the existing R-7001. The implementation of the No Action Alternative would continue to limit the WYARNG's full training potential. The No Action Alternative is not considered a reasonable alternative because it does not meet the purpose of, and need for, the WYARNG's Proposed Action or the FAA's Proposed Action. However, as required under Council on Environmental Quality (CEQ) regulations (40 CFR 1502.14[d]), the No Action Alternative does provide a description of the conditions against which the impacts of the FAA's Proposed Action can be compared.

The EA also evaluated the Proposed Action, which is the temporary establishment, up to two years, of three CFAs: CFA North, CFA West, and CFA South.

6.0 Environmental Impacts

The following summarizes the results of the FAA's independent evaluation of the EA regarding its Proposed Action and the potential environmental impacts associated with the establishment of the CFAs.

Given the nature of the Proposed Action, the FAA's only involvement in establishing a CFA is to authorize the proponent to conduct their operations based on FAA approved safety measures. Under the Proposed Action, the CFA protects aircraft from potentially being struck by errant artillery as the operations are halted if any aircraft enters the CFA airspace. There is no charting or removal of airspace from the NAS and, for this reason, CFAs have no impact to the NAS. In other words, all aircraft can traverse a CFA without impact.

The FAA's Proposed Action would not involve land acquisition, physical disturbance, construction activities, any changes flight operations, nor impact the NAS; therefore, the effects of the Proposed Action on the FAA's impact categories are minimal or nonexistent.

The following NEPA impact categories were assessed:

Air Quality

The FAA impact category of Air Quality is incorporated into the Air Quality section of the EA. FAA Order 1050.1F provides the FAA's significance threshold for air quality: Potentially significant air quality impacts associated with an FAA project or action would be demonstrated by the project or action exceeding one or more of the National Ambient Air Quality Standards (NAAQS) for any of the time periods analyzed. The Clean Air Act (CAA) established NAAQS for six criteria pollutants. The six criteria pollutants are carbon monoxide (CO), lead (Pb), nitrogen dioxide (NO2), ozone (O3), particulate matter (PM-10 and PM-2.5), and sulfur dioxide (SO2).

Section 176(c) of the CAA, as articulated in the U.S. Environmental Protection Agency (EPA) General Conformity Rule, states that a federal agency cannot issue a permit for, or support, an activity unless the agency determines that it will conform to the most recent EPA-approved State Implementation Plan. This means that projects using federal funds or requiring federal approval must not: (1) Cause or contribute to any new violation of a NAAQS; (2) increase the frequency or severity of any existing violation; or (3) delay the timely attainment of any standard, interim emission reduction, or other milestone.

The General Conformity Rule applies to NAAQS in federal non-attainment areas. Since the air basin in the Region of Interest (ROI) is in attainment of all NAAQS for all criteria pollutants, the General Conformity Rule would not apply to the FAA's Proposed Action. The establishment of CFAs would not result in the generation of air emissions. Therefore, the FAA has determined that its Proposed Action will not result in significant impacts on air quality when compared to the No Action Alternative.

Biological Resources (Including Fish, Wildlife, and Plants)

The FAA impact category of Biological Resources (including fish, wildlife, and plants) is incorporated into the Biological Resources section of the EA. The FAA's Proposed Action would not result in any construction, ground disturbance, change in aircraft operations, or affect the NAS in any way.

Plants

The FAA's Proposed Action would be limited to airspace establishment. It would not affect ground-based training activities and, therefore, would not result in any physical development that would require clearing of native vegetation at Camp Guernsey or the surrounding vicinity.

Fish and Wildlife

The establishment of the CFA would not result in any physical development with the potential to affect fish and wildlife.

Endangered Species Action Consultation

The WYARNG downloaded an official U.S. Fish and Wildlife Service (USFWS) species list for Camp Guernsey on December 27, 2019, from the USFWS's Information, Planning, and Conservation (IPaC) system website (http://ecos.fws.gov.ipac/). The USFWS Official Species List for Camp Guernsey listed the following species as federally protected: Preble's meadow jumping mouse (Zapus hudsonius preblei); Ute ladies'-tresses (Spiranthes diluvialis); and Platte River Species including least tern (Sterna antillarum), piping plover (Charadrius melodus), whooping crane (Grus americanus), pallid sturgeon (Scaphirhynchus albus), and western prairie fringed orchid (Platanthera praeclara). The USFWS has not designated any critical habitat on Camp Guernsey.

An Endangered Species Act (ESA) Section 7 review and effects determination for the federally listed species was completed by the WYARNG. A no effect determination was made for all the species listed above.

The northern long-eared bat was federally listed as threatened in 2015. The current USFWS range map does not include Platte County within the range of the northern long-eared bat; therefore, it is not on the USFWS species list for Camp Guernsey. However, neighboring Goshen County is within this species' range. No maternity roost trees, hibernacula, or swarming sites for the northern long-eared bat have been identified on Camp Guernsey.

Acoustic surveys conducted on Camp Guernsey in the summer of 2019 recorded bat calls that, when analyzed using USFWS accepted acoustic survey protocols, were classified as northern long-eared bat. However, other Myotis spp. with similar acoustic are known to be present on Camp Guernsey and classification of Myotis spp. can be difficult using acoustic methods alone. Northern long-eared bats have never been captured during mist nest sampling; however, capture efforts through mist netting has been low on Camp Guernsey. Through conversations with the USFWS, the WYARNG has decided to analyze the Proposed Action as if the northern long-eared bat is present.

While no northern long-eared bats or habitat have been identified on Camp Guernsey, long-eared bats could potentially occur on the land below the proposed CFAs; however, the FAA's Proposed Action does not have the potential to effect the long-eared bat.

Therefore, the FAA has determined that its Proposed Action will not result in significant impacts on biological resources when compared to the No Action Alternative.

Climate

The FAA impact category of Climate is incorporated into the Climate Change/Greenhouse Gases section of the EA. Significant increases in the emissions of greenhouse gases (GHG) and associated climate change impacts could occur if the Proposed Action would result in GHG emissions equal to or greater than 25,000 metric tons of carbon dioxide equivalent (CO2e) annually. In draft guidance released on December 24, 2014, the CEQ recommended that emissions equal to or greater than 25,000 metric tons of CO2e annually should be included in NEPA assessments (CEQ 2014). On August 1, 2016, the CEQ released final guidance; however, pursuant to Executive Order 13783, Promoting Energy Independence and Economic Growth, the CEQ has withdrawn its final guidance for federal agencies on how to consider GHG emissions and the effects of climate change in NEPA reviews. FAA Order 1050.1F, Environmental Impacts: Policies and Procedures, requires an assessment of GHG emissions as they relate to climate. However, the FAA has not established significance criteria for GHG emissions or impacts to climate. Therefore, given the nature of the FAA's Proposed Action and the uncertainty around long-term training schedules, GHG emissions are discussed qualitatively below.

Under the FAA's Proposed Action, there would be no new aircraft operations that would have an effect on the acceleration of global climate change. The Proposed Action does not permit military aircraft operations and, therefore, there would be no change from the No Action Alterative.

Therefore, the FAA has determined that its Proposed Action will not result in significant impacts on climate when compared to the No Action Alternative.

Coastal Resources

There are no coastal resources in the study area; therefore, this resource was eliminated from further consideration.

Compatible Land Use

The FAA Compatible Land Use impact category is incorporated into the Land Use and Cover section of the EA. The FAA has not established a significance threshold for land use. The compatibility of existing and planned land uses with an aeronautical proposal is usually associated with noise impacts, disruption of communities, relocation, and induced socioeconomic impacts. The determination that significant impacts exist usually depends on whether the Proposed Action would result in other impacts exceeding thresholds of significance that have land use ramifications. The FAA's Proposed Action would be entirely airspace-based and would not involve construction, physical improvements, modifications, or flight operations. As a result, there would be no shifts in patterns of population movement and growth, public service demands, or changes in business and economic activity resulting from the Proposed Action.

Camp Guernsey is located in Platte County, Wyoming, and is composed of a northern and southern training area. The cantonment area contains an airstrip/airfield (Camp Guernsey Joint-Use Airport) and is located between the two training areas. The Proposed Action occurs in the northern training area of Camp Guernsey. Land use under the proposed CFAs is primarily vacant and undeveloped. Adjacent land use that is not under the proposed CFAs is used for ranching and a few dozen residences. The largest nearby town is Guernsey, with a population of 1,147 in 2010.

The proposed CFAs would occupy airspace located above Camp Guernsey, within the installation boundaries. All of the land under the proposed SUA is either owned or managed by the WYARNG under a variety of different permits and memorandums of understanding.

All land within the installation boundary of Camp Guernsey is considered Federal Property, and the public is not permitted on installation property without permission or except during known designated public access periods. A small portion of the Guernsey State Park is located under the proposed CFA, within the installation boundaries. Public access to this portion of the Guernsey State Park is restricted except for the limited activities described below during specified time periods. The main portion of Guernsey State Park is located directly south of the installation boundary and contains a reservoir.

Under existing conditions (No Action Alternative), the public is not permitted on installation property unless permitted for specific activities. Under existing conditions, little to no public recreation is allowed during the summer months when military training activities are being conducted. However, the WYARNG does allow hunting, fishing, trapping, firewood gathering, and holiday tree cutting during the fall and winter months. Under the WYARNG's Proposed Action, Camp Guernsey would remain closed to recreational activities during the summer when military training activities are being conducted. The use of the CFAs would occur approximately 20 days per year. However, recreational activities would continue during the fall and winter months. Increases in the frequency of brigade-level training exercises would be limited to the summer months and would not affect recreational activities during the fall and winter months. The establishment of the CFAs would not restrict recreational activities on Camp Guernsey, beyond the closures during training and maneuver activities, as previously described, that are already occurring as part of the No Action Alternative.

The FAA's Proposed Action does not involve any change to flight operations and, therefore, the nearby land uses that may be sensitive to noise and visual effects (Guernsey State Park located on the installation, Guernsey State Park located off the installation, and residences) would not be affected.

Since the FAA's Proposed Action would not involve land acquisition, physical disturbance, construction activities, or flight operations, there would be no potential that any of the FAA impact areas would affect compatible land use.

Therefore, the FAA has determined that its Proposed Action will not result in significant impacts on land use when compared to the No Action Alternative.

Department of Transportation Act: Section 4(f)

Per FAA Order 1050.1F, Change 1, Appendix A, Section 6, this EA does not provide a Section 4(f) analysis. The designation of airspace for military flight operations is exempt from Section 4(f) of the Department of Transportation Act. The DoD reauthorization in 1997 provided that “[n]o military flight operations (including a military training flight), or designation of airspace for such an operation, may be treated as a transportation program or project for purposes of Section 303(c) of Title 49, U.S. Code (Pub. L. 105-85).” Per FAA Order 1050.1F, SUA actions are exempt from the requirements of Section 4(f) and, therefore, this resource was eliminated from further consideration.

Farmlands

The Proposed Action would be limited to the establishment of airspace only and would not include any project components that would directly disturb soils. Therefore, geological resources, including farmland soils, were eliminated from further consideration.

Hazardous Materials, Solid Waste, and Pollution Prevention

No ground-disturbing activities would occur as a part of the FAA's Proposed Action. Therefore, this resource was eliminated from further consideration.

Historical, Architectural, Archeological, and Cultural Resources

The FAA impact category of Historical, Architectural, Archeological, and Cultural Resources is incorporated into the Cultural Resources section of the EA. The National Historic Preservation Act (NHPA) Section 106 (Section 106) regulations direct federal agencies to make reasonable and good faith efforts to identify historic properties in regards to a Proposed Action (36 CFR 800.4(b)(1)). Federal agencies are to take into account the nature and extent of potential effects on historic properties, and the likely nature and location of historic properties within areas that may be affected. Compliance with Section 106 requires consultation with the State Historic Preservation Officer (SHPO) and/or the Tribal Historic Preservation Officer (THPO) if there is a potential adverse effect to historic properties within the Area of Potential Effect (APE) that are on, or eligible for listing on, the National Register of Historic Places.

The FAA's Proposed Action does not include any project components that would directly or indirectly affect the ground surface. Cultural resources within the APE would not be disturbed since there would be no ground-disturbing activities (e.g., construction or demolition) associated with the FAA's Proposed Action. Additionally, the potential for effects on cultural resources underlying the proposed CFA would not occur as there are no changes to aircraft operations associated with the Proposed Action. No noise or visual impacts would occur under the Proposed Action.

The FAA's Proposed Action does not have the potential to effect cultural resources.

Therefore, the FAA has determined that its Proposed Action will not result in significant impacts on Historical, Architectural, Archeological, and Cultural Resources when compared to the No Action Alternative.

Natural Resource and Energy Supply

The Proposed Action would not involve extractive activities or changes in the energy supply. Therefore, this resource was eliminated from further consideration.

Noise

The FAA Noise impact category is incorporated into the Noise section of the EA. As mentioned previously, the EA analyzed the WYARNG's Proposed Action, which consists of both land-based activities (training and maneuver) and airspace activities (CFA). Some of the proposed land-based activities require the establishment of SDZs for safety reasons. These SDZs provide separation of artillery from non-participating aircraft. The proposed CFAs would accommodate the SDZs. The FAA's Proposed Action, the establishment of the CFAs, simply ensures that the proponent's safety measures protect aircraft and does not change any existing flight operations. Given the nature of the FAA's Proposed Action, there is no potential to affect noise.

The FAA's significance criteria for noise and compatible land use would not be met; therefore, the Proposed Action would not result in significant impacts when compared to the No Action Alternative.

Socioeconomics, Environmental Justice, and Children's Environmental Health and Safety Risks

The FAA Socioeconomic, Environmental Justice, and Children's Environmental Health and Safety Risks impact category is incorporated into the Socioeconomics and Infrastructure sections, as well as the Protection of Children and Environmental Justice sections of the EA. The FAA has not established a significance threshold for these impacts. However, the determination that significant impacts exists can be determined by whether an alternative would substantially alter the location and distribution of the human population, cause the population to exceed historical growth rates, or substantially affect the local housing market and vacancy rates, or create a need for new or increased fire or police protection or medical services, beyond the current capability of the local community. An alternative that involves substantial acquisition of real estate, relocation of residents or community businesses, disruption of local traffic patterns, a substantial loss in the community tax base, or changes to the fabric of the community could also result in a significant effect.

The FAA's Proposed Action does not involve any activities that would cause noise or visual effects as there are no changes to flight operations as part of the CFA establishment. The small portion of Guernsey State Park that is located within the installation boundary is in the southernmost portion of Camp Guernsey and, as previously stated, the park is already closed and will continue to be closed to the public during summer exercises, so there should be no impact from the FAA's Proposed Action. Since the park has already been closed for summer exercises, continuing to have the park closed when the proposed CFA is established would not have an impact on recreational user access.

The proposed CFAs would occur entirely in the airspace above the existing boundaries of Camp Guernsey and they would not affect nearby airspaces (e.g., Class D airspace in the vicinity of Camp Guernsey Joint-Use Airport). Similarly, the proposed CFAs would not intersect with or otherwise affect the two Victor Airways or the Jet Route in the immediate vicinity of the FAA's Proposed Action. Additionally, the airspace in the vicinity of Camp Guernsey and the Camp Guernsey Joint-Use Airport is most commonly used by military aircraft associated with training activities, while civilian flight movements only accounted for 15% of all 2018 flight movements. Given the adjacency to the existing RA, R-7001, the proposed CFAs would not impact general aviation or commercial air traffic, as air traffic would be allowed to continue through the CFAs. Also, WYARNG training activities would be required to cease if a non-participating aircraft approaches the area.

The FAA has not established a significance threshold for Environmental Justice or for Children's Environmental Health and Safety Risks. Executive Order 12898, Federal Actions to Address Environmental Justice in Minority Populations and Low-Income Populations, and the accompanying Presidential Memorandum, and Order DOT 5610.2, Environmental Justice, require the FAA to provide for meaningful public involvement by minority and low-income populations, and analysis that identifies and addresses potential impacts to these populations that may be disproportionately high and adverse.

Camp Guernsey does not have any residential structures that house employees and their families within the installation boundary. Additionally, Camp Guernsey does not have any school or hospital uses within the boundaries of the installation. The proposed CFAs would occur in airspace above and within the boundaries of Camp Guernsey and not in close proximity to any children. No CFAs would cross the installation's boundary and into close proximity to any children.

As identified in Table 3.8-1 of the EA, the ROI and surrounding communities do not have a disproportionately high minority or low-income population. Also, there are no significant impacts on the human environment resulting from the implementation of the FAA's Proposed Action that would affect an environmental justice population in a way that is unique or significant to that population. In addition, there are no specific impacts on the general health or quality of life that would adversely or disproportionately impact the ROI population, including no increased environmental health risks or safety risks to children.

The CEQ defines minority populations as members of the following population groups: American Indian or Alaskan Native; Asian or Pacific Islander; Black, not of Hispanic origin; or Hispanic. Minority populations are identified where either: (1) The minority population of the affected area exceeds 50%, or (2) the minority population percentage of the affected area is meaningfully greater than the minority population percentage in the general population or other appropriate unit of geographic analysis. The FAA's Proposed Action occurs in airspace located above and within the boundaries of Camp Guernsey. Based on the EPA's Environmental Justice Mapping and Screening Tool (EJSCREEN) (2019b), no minority population or low-income populations that meet the CEQ definition are located within or immediately adjacent to Camp Guernsey (i.e., EJSCREEN reports local minority population as 28% in the Town of Guernsey).

Therefore, the FAA's Proposed Action would not have the potential to result in any significant impacts to minority or low-income communities as none exist within or immediately adjacent to Camp Guernsey. Similarly, there are no potential impacts to Children's Environmental Health and Safety Risks or Environmental Justice as there are no child, minority, or low-income communities present.

Therefore, the Proposed Action would have no significant impacts on Socioeconomics, Children's Environmental Health and Safety Risks, or Environmental Justice when compared with the No Action Alternative.

Visual Effects (Including Light Emissions)

The FAA impact category of Visual Effects (including light emissions) is incorporated into the Aesthetics and Visual Resources section of the EA. The FAA has not established a significance threshold for visual effects. The FAA's Proposed Action would not result in any physical development that would alter the visual character of Camp Guernsey and the surrounding vicinity since there are no flight operations permitted in the CFA. There is no potential to affect visual resources.

Therefore, the Proposed Action would have no significant impacts on Visual Effects (including light emissions) when compared with the No Action Alternative.

Water Resources (Including Wetlands, Floodplains, Surface Waters, Groundwater, and Wild and Scenic Rivers)

No construction activities or other ground-based activities would occur under the FAA's Proposed Action, and its implementation would not cause any disturbance of water resources; therefore, this resource was eliminated from further consideration.

Cumulative Impacts

Cumulative impacts result from incremental impacts of an action when combined with other past, present, and reasonably foreseeable future actions (40 CFR 1508.7). Cumulative impacts can result from individually minor but collectively significant actions over a period of time (CEQ, 1997). Cumulative impacts would occur if incremental impacts of the Proposed Action, added to the environmental impacts of past, present, and reasonably foreseeable future actions, would result in an adverse effect to resources in the region.

The cumulative impacts analysis focuses on those resource areas that may be significantly impacted by the FAA's Proposed Action, and/or those resource areas currently in poor or declining health or at risk, even if the Proposed Action impacts would be relatively small.

Past, Present, and Reasonably Foreseeable Future Actions

Helicopter Aerial Gunnery Range—Foreseeable Future Action

A potential future action is the construction and operation of a new U.S. Air Force Helicopter Aerial Gunnery Range in the northern training area. This Proposed Action would not require an action by the FAA for the establishment or modification of any SUA, as it would use the existing SUA and/or the newly proposed SUA that is part of the subject Proposed Action. The WYARNG would conduct a separate NEPA analysis for this action in the future. This action has not been determined to be an immediate need for the WYARNG and, therefore, is not ripe for analysis.

Restricted Areas—R-7002A, R-7002B, and R-7002C—Foreseeable Future Action

The WYARNG submitted an Aeronautical Proposal in May 2020 that includes future RAs (R-7002A, R-7002B, and R-7002C). During the two-year interim period following the establishment of the CFAs, the FAA will analyze, aeronautically, the permanent establishment of the RAs that would replace the temporary CFAs that are the subject of this FONSI/ROD. FAA issuance of a CFA typically takes months, per FAA 7400.2M, and is only permitted for use for a maximum of two years per issuance. RAs are permanent, and the process to establish an RA may take years due to required rulemaking actions (14 CFR part 73). Given the temporary nature of CFAs, as well as the timeline for the establishment of the permanent RAs, the WYARNG is first pursuing the establishment of CFAs. The CFAs would permit usage of the proposed airspace for hazardous activities for two years, until the RA has been established. If the RA rulemaking process takes longer than two years, additional CFA requests may be pursued.

The EA analyzed the RAs to accommodate the SDZs associated with field artillery. The RAs would also permit hazardous military flight operations; however, different from the CFAs, non-participating aircraft (civilian or other military aircraft not associated with the operations or exercise) would not be permitted to enter the RA airspace. The RA would allow for both ground-based hazards (artillery) and air-based hazards, such as military flight operations, to occur within it. Unlike a CFA, an RA does not allow for the existing military and civilian aircraft to traverse the RA and, because of that, impacts to the NAS are realized.

In addition to containing the SDZs associated with artillery, the proposed RAs would also facilitate unmanned aircraft systems (UAS) operations and support laser targeting operations. The WYARNG anticipates that, along with the proposed establishment of the RAs, total aircraft operations in Camp Guernsey (including existing R-7001 and using UAS operations) would increase by approximately 15% relative to current levels.

As previously stated, the establishment of these RAs is not ripe for an FAA decision as the process of aeronautically analyzing the WYARNG's aeronautical proposal is not far enough along for a decision. However, the EA analyzed the potential impact of the establishment of the RAs for the 14 FAA impact areas. The analysis in the EA revealed that the Proposed Action of establishing the RAs would not result in significant impacts when compared to the No Action Alternative. Given the analysis to date, pending any changes to the proposal during the aeronautical process, there would be limited impacts from the proposed establishment of the RAs when combined with past, present, and other reasonably foreseeable projects.

R-7001D—Foreseeable Future Action

Another potential future action is raising the altitude of an existing RA, R-7001, by creating a new subsection, R-7001D. This Proposed Action would require an action by the FAA to raise the altitude of the existing R-7001. The WYARNG submitted an Aeronautical Proposal in May 2020 that includes R-7001D and is currently preparing a Supplemental EA for this action, as it was determined that this additional airspace would be needed in the future. At which time the Supplemental EA is presented to the FAA for review, impacts from the establishment of R-7001D would be assessed along with the aeronautical analysis.

The FAA's Proposed Action would not result in significant impacts to any of the impact categories assessed in this FONSI/ROD. Incremental effects from implementation of the FAA's Proposed Action, when combined with other actions, would result in a less than significant cumulative impact to the impact categories assessed in this FONSI/ROD. Based on its independent review of the FAA's Proposed Action, the FAA has determined there would be no significant cumulative impacts as a result of the establishment of the FAA's Proposed Action.

7.0 Public Involvement

NEPA

As part of the NEPA process, the Draft EA was provided for public review from February 25-March 11, 2020, and one comment was received from the Bureau of Reclamation indicating an incorrect date of the Free Use Permit. The date has since been corrected in the EA.

The EA was finalized in March 2020, and the WYARNG signed its FONSI on March 16, 2020. The FONSI is the WYARNG's decision to implement the preferred alternative identified in the EA as the Proposed Action.

8.0 Decisions and Orders

The WYARNG has requested airspace changes in the form of the Proposed Action; namely, to establish the proposed CFAs.

Adoption

In accordance with FAA Order 1050.1F and CEQ regulation 40 CFR 1506.3, the FAA has conducted an independent review and evaluation of the WYARNG's EA for the proposed CFAs. Based on its independent review, the FAA has determined that the sections of the EA pertaining to CFAs, and its supporting documentation, as incorporated by reference, adequately assess and disclose the environmental impacts of the FAA's Proposed Action and that the adoption of the EA by the FAA is authorized under 40 CFR 1506.3 and FAA Order 1050.1F, paragraph 8-2.

Accordingly, the FAA adopts the sections of the EA pertaining to the CFAs, appendices, and all information identified therein, incorporated by reference, and made publicly available.

Decision and Approval

After careful and thorough consideration of the adopted EA and the facts contained herein, the undersigned finds that the FAA's Proposed Action is consistent with existing national environmental policies and objectives as set forth in Section 101 of NEPA and other applicable environmental requirements, and will not significantly affect the quality of the human environment or otherwise include any condition requiring consultation pursuant to Section 102(2)(C) of NEPA. Therefore, an environmental impact statement will not be prepared.

The undersigned has carefully considered the FAA's statutory mandate under 49 U.S.C. 40103 to ensure the safe and efficient use of the NAS and the other aeronautical goals and objectives discussed in the EA. The undersigned finds that the FAA's Proposed Action provides the best airspace combination for meeting the needs stipulated in the EA and that all practicable means to avoid or minimize environmental harm from that alternative have been adopted.

Accordingly, under the authority delegated to the undersigned by the Administrator of the FAA, the undersigned approves and authorizes all necessary Agency action to establish the CFAs, as described in the FAA's Proposed Action.

This decision signifies that applicable federal environmental requirements relating to the Proposed Action have been met.

Shawn M. Kozica,
Manager, Operations Support Group, Western Service Center, AJV-W2.

Right of Appeal

This FONSI/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110. Any party seeking to stay implementation of the FONSI/ROD must file an application with the FAA prior to seeking judicial relief as provided in Rule 18(a) of the Federal Rules of Appellate Procedure.

[FR Doc. 2020-13571 Filed 6-23-20; 8:45 am]

BILLING CODE 4910-13-P